DEPARTMENT OF COMMERCE

Foreign-Trade Zones Board

[Docket 19-2011]

Foreign-Trade Zone 137—Washington Dulles International Airport, VA Area; Application for Reorganization Under Alternative Site Framework

An application has been submitted to the Foreign-Trade Zones (FTZ) Board (the Board) by the Washington Dulles Foreign Trade Zone Inc., grantee of FTZ 137, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 14, 2011.

FTZ 137 was approved by the Board on April 17, 1987 (Board Order 350, 52 FR 13489, 4/23/87) and expanded on March 12, 1999 (Board Order 1029, 64 FR 14213, 3/24/99) and on April 5, 2001 (Board Order 1152, 66 FR 19424, 4/16/01).

The current zone project includes the following sites: Site 1 (243 acres)—Washington Dulles International Airport, Aviation Drive, Dulles; Site 2 (3.5 acres)—Victory Van Corporation facilities, 110 Terminal Drive, Sterling; Site 3 (142 acres)—Arcola complex, located at the intersection of Rt. 606 & 621, Dulles; Site 4 (183 acres)—Ft. Collier Industrial Park (167 acres), located at the intersection of Rt. 11 & Ft. Collier Road, Winchester; and, Fortessa, Inc. (16 acres) within the Stonewall Industrial Park, 402 McGhee Road, Winchester; Site 5 (64 acres)—Winchester Regional Airport industrial park, Airport Road/Rt. 645 & Pegasus Court, Winchester; and, Site 6 (155 acres)—Wrights Run complex, intersection of U.S. Rt. 522 & Rt. 624, Winchester.

The grantee's proposed service area under the ASF would be Frederick, Clarke, Loudoun, Fairfax, Fauquier, Prince William, and Arlington Counties and the City of Alexandria, Virginia, as described in the application. If approved, the grantee would be able to serve sites throughout the service area based on companies' needs for FTZ designation. The proposed service area is within and adjacent to the Washington Dulles International Airport Customs and Border Protection port of entry.

The applicant is requesting authority to reorganize its existing zone project under the ASF as follows: renumber the non-contiguous portion (16 acres) of Site 4 as Site 7; Sites 1-6 would become “magnet” sites; and, Site 7 would become a usage-driven site. The ASF allows for the possible exemption of one magnet site from the “sunset” time limits that generally apply to sites under the ASF, and the applicant proposes that Site 1 be so exempted.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is May 17, 2011. Rebuttal comments in response to material submitted during the foregoing period may be submitted during the subsequent 15-day period to June 1, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Kathleen Boyce at Kathleen.Boyce@trade.gov or (202) 482-1346.

Dated: March 14, 2011.
Andrew McGilvray,
Executive Secretary.

[FR Doc. 2011-6445 Filed 3-17-11; 8:45 am]

BILLING CODE 3510-DS-P